DEPARTMENT OF DEFENSE

Office of the Secretary

[Docket ID: DOD-2016-OS-0091]

Privacy Act of 1974; System of Records

AGENCY: Defense Logistics Agency, DoD.

ACTION: Notice to alter a system of records.

SUMMARY: Pursuant to the Privacy Act of 1974, and Office of Management and Budget (OMB) Circular No. A-130, notice is hereby given that the Defense Logistics Agency (DLA) proposes to alter a system of records, S375.80, entitled “DLA Telework Program Records” last published at 78 FR 17384, March 21, 2013. The system of records exists to administer the DLA Alternate Worksite/Telework program. Information on participation in the Telework Program, minus personal identifiers, is provided in management reports and to the DoD for a consolidated response to the Office of Personnel Management (OPM) annual data call. Portions of the records are also used to validate and reimburse participants for costs associated with telephone and Internet usage.

This update reflects considerable administrative changes that in sum warrant an alteration to the systems of records notice. The applicable DoD Routine Uses have been incorporated in the notice to provide clarity for the public. Additionally, the categories of individuals has been updated to clearly identify the population of individuals who are included in the system of records and the categories of records has been updated to better define the information collected in the records. There are also modifications to system name, system location, authority, purpose, storage, retrievability, safeguards, retention and disposal, system manager(s) and address, notification procedure, record access procedures, and record source categories.

DATES: Comments will be accepted on or before October 17, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Lewis Oleinick, Chief FOIA and Privacy Officer, DLA/FOIA/Privacy Act Office, Headquarters, Defense Logistics Agency, ATTN: DGA, 8725 John J. Kingman Road, Suite 1644, Fort Belvoir, VA 22060-6221, or by phone at (703) 767-6194.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/.

The proposed systems reports, as required by 5 U.S.C. 552a(r) of the Privacy Act, as amended, were submitted on August 26, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: September 12, 2016.
Aaron Siegel,
Alternate OSD Federal Register Liaison Officer, Department of Defense.

S375.80

System name:

DLA Telework Program Records (March 21, 2013, 78 FR 17384)

Changes:

* * * * *

System name:

Delete entry and replace with “Defense Logistics Agency (DLA) Alternate Worksite/Telework Records.”

System location:

Delete entry and replace with “Office of the Director, Human Resources, Headquarters, Defense Logistics Agency, 8725 John J. Kingman Road, Suite 3527, Fort Belvoir, VA 22060-6221, and DLA Primary Level Field Activities. Official mailing addresses are published as an appendix to DLA's compilation of systems of records notices.”

Categories of individuals covered by the system:

Delete entry and replace with “Current DLA civilian employees having a DLA alternate worksite/telework record and former DLA civilian employees who have left the agency where the DLA alternate worksite/telework record was part of a personnel action.”

Categories of records in the system:

Delete entry and replace with “Records include individual's name; DoD ID number; position title, grade, and job series; last performance evaluation rating; duty station address and telephone number; approved telework address, telephone number(s), DLA telework request forms (DLA Telework Request and Approval Form, Telework Agreement, Self-Certification Home Safety Checklist, and Supervisor-Employee Checklist); approvals/disapprovals; description of government owned equipment and software provided to the teleworker; employee telework eligibility code, position telework eligibility code, telework employee training record, and position description number.”

Authority for maintenance of the system:

Delete entry and replace with “5 U.S.C. Ch. 65, Telework; DoD Instruction 1035.01, Telework Policy; and Defense Logistics Agency Instruction 7212, DLA Telework Program.”

Purpose(s):

Delete entry and replace with “Information is used by supervisors, program coordinators, DLA Information Operations and DLA Human Resources Services, Human Resources Information Systems for managing, evaluating, and reporting DLA Alternate Worksite/Telework Record activity/participation. Information on participation in the Telework Program, minus personal identifiers, is provided in management reports and to the DoD for a consolidated response to the Office of Personnel Management (OPM) annual data call.

Portions of the records are also used to validate and reimburse participants for costs associated with telephone and internet usage.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552(b)(3) as follows:

To the Department of Labor when an employee is injured while teleworking, e.g., details of the telework arrangement may be disclosed.

To DLA-affiliated unions to provide raw statistical data on the program. Disclosed information may include number of positions designated as eligible for telework by job title, series and grade; number of employees requesting telework; number approved for telework by the local activity. No personal identifiers or personally identifying data is provided.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure to the National Archives and Records Administration Routine Use: A record from a system of records maintained by a DoD Component may be disclosed as a routine use to the National Archives and Records Administration for the purpose of records management inspections conducted under authority of 44 U.S.C. 2904 and 2906.

Disclosure to the Merit Systems Protection Board Routine Use: A record from a system of records maintained by a DoD Component may be disclosed as a routine use to the Merit Systems Protection Board, including the Office of the Special Counsel, for the purpose of litigation, including administrative proceedings, appeals, special studies of the civil service and other merit systems, review of OPM or component rules and regulations, investigation of alleged or possible prohibited personnel practices; and administrative proceedings involving any individual subject of a DoD investigation, and such other functions, promulgated in 5 U.S.C. 1205 and 1206, or as may be authorized by law.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

Policies and practices for storing, retrieving, accessing, retaining, and disposing of records in the system:

Storage:

Delete entry and replace with “Electronic storage media and paper records.”

Retrievability:

Delete entry and replace with “Records are retrieved by employee's full name or DoD ID Number.”

Safeguards:

Delete entry and replace with “Records are maintained in a controlled facility. Physical entry is restricted by the use of locks, guards, and is accessible only to authorized personnel. Access to computerized data is restricted by passwords, which are changed periodically or by Common Access Cards (CACs). Access to records is limited to person(s) responsible for servicing the records in the performance of their official duties and who are properly screened and cleared for need-to-know. Individuals granted access to this system of records are required to have Information Assurance and Privacy Act training.

Paper records are maintained in areas accessible only to DLA personnel who must use the records to perform their duties. Records are secured in locked or guarded buildings, locked offices, or locked cabinets during non-duty hours.”

Retention and disposal:

Delete entry and replace with “Destroy approved request 1 year after end of employee's participation in the program. Destroy disapproved request 1 year after request is rejected. Destroy other generated records when 1 year old, or when no longer needed, whichever is later.”

System manager(s) and address:

Delete entry and replace with “Office of the Director, Human Resources, Headquarters, Defense Logistics Agency (DLA), 8725 John J. Kingman Road, Suite 3527, Fort Belvoir, VA 22060-6221.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the record subject's full name and the DLA facility/activity where employee requested to participate in the DLA Telework Program.

An unsworn declaration under penalty of perjury in accordance with section 1746 of 28 U.S.C. or notarized signatures are acceptable as a means of proving the identity of the individual.

If an unsworn declaration is executed within the United States, its territories, possessions, or commonwealths, it shall read `I declare (or certify, verify, or state) under penalty of perjury under the laws of the United States of America that the foregoing is true and correct. Executed on (date). (Signature).'

If an unsworn declaration is executed outside the United States, it shall read `I declare (or certify, verify, or state) under penalty of perjury under the laws of the United States of America that the foregoing is true and correct. Executed on (date). (Signature).' ”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the record subject's full name and the DLA facility/activity where employee requested to participate in the DLA Telework Program.

An unsworn declaration under penalty of perjury in accordance with section 1746 of 28 U.S.C. or notarized signatures are acceptable as a means of proving the identity of the individual.

If an unsworn declaration is executed within the United States, its territories, possessions, or commonwealths, it shall read `I declare (or certify, verify, or state) under penalty of perjury under the laws of the United States of America that the foregoing is true and correct. Executed on (date). (Signature).'

If an unsworn declaration is executed outside the United States, it shall read `I declare (or certify, verify, or state) under penalty of perjury under the laws of the United States of America that the foregoing is true and correct. Executed on (date). (Signature).' ”

* * * * *

Record source categories:

Delete entry and replace with “Information is supplied by the record subject, supervisors, and information technology offices, including automated Human Resources and timekeeping systems.”

* * * * *

[FR Doc. 2016-22236 Filed 9-14-16; 8:45 am]

BILLING CODE 5001-06-P